DEPARTMENT OF VETERANS AFFAIRS

Commission on Care

ACTION: Notice of meeting.

In accordance with the Federal Advisory Committee Act, 5 U.S.C., App. 2, the Commission on Care gives notice that it will meet on Monday, March 21, 2016; Tuesday, March 22, 2016, and Wednesday, March 23, 2016, at the 20 F Street NW., Conference Center located at 20 F Street NW., Washington, DC 20001. On Monday, March 21, the meeting will convene at 1:00 p.m. (EST) and end by 5:00 p.m. (EST). On March 22 and March 23, the meetings will convene at 8:30 a.m. (EST) and end by 5:00 p.m. (EST). The meetings are open to the public. A telephone conference line will be available for a limited number of remote attendees to observe meeting deliberations.

The purpose of the Commission, as described in section 202 of the Veterans Access, Choice, and Accountability Act of 2014, is to examine the access of veterans to health care from the Department of Veterans Affairs and strategically examine how best to organize the Veterans Health Administration, locate health care resources, and deliver health care to veterans during the next 20 years.

No time will be allocated at this meeting for receiving oral presentations from the public. The public may submit written statements for the Commission's review to commissiononcare@va.gov. Any member of the public wishing to attend may register their intentions by emailing the Designated Federal Officer, John Goodrich, at commissiononcare@va.gov. Remote attendees joining by telephone must email Mr. Goodrich by 12:00 p.m. (EST) on Friday, March 18, 2016, to request dial-in information.

Dated: March 3, 2016.
John Goodrich,
Designated Federal Officer, Commission on Care.

[FR Doc. 2016-05103 Filed 3-7-16; 8:45 am]

BILLING CODE 8320-01-P